ENVIRONMENTAL PROTECTION AGENCY

[EPA-HQ-OAR-2020-0599; FRL-10017-95-OAR]

Notice of Request for Approval of Alternative Means of Emission Limitation

AGENCY: Environmental Protection Agency (EPA).

ACTION: Notice and request for comments.

SUMMARY: This action provides public notice and solicits comment on a request by Rohm and Haas Chemicals LLC, a subsidiary of The Dow Chemical Company (Dow), under the Clean Air Act (CAA), for an alternative means of emission limitation (AMEL) for the Standards of Performance for Volatile Organic Liquid Storage Vessels, that would apply to a proposed new vinyl acetate bulk storage tank to be used at its chemical plant in Kankakee, Illinois.

DATES: Comments must be received on or before March 25, 2021.

Public hearing: If anyone contacts us requesting a public hearing on or before February 16, 2021, the EPA will hold a virtual public hearing on February 23, 2021. Please refer to the SUPPLEMENTARY INFORMATION section for additional information on the public hearing.

ADDRESSES: You may send comments, identified by Docket ID No. EPA-HQ-OAR-2020-0599, by any of the following methods:

• Federal eRulemaking Portal: https://www.regulations.gov/ (our preferred method). Follow the online instructions for submitting comments.

• Email: a-and-r-docket@epa.gov. Include Docket ID No. EPA-HQ-OAR-2020-0599 in the subject line of the message.

• Fax: (202) 566-9744. Attention Docket ID No. EPA-HQ-OAR-2020-0599.

• Mail: U.S. Environmental Protection Agency, EPA Docket Center, Docket ID No. EPA-HQ-OAR-2020-0599, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operation are 8:30 a.m.-4:30 p.m., Monday - Friday (except Federal holidays).

Instructions. All submissions received must include the Docket ID No. for this rulemaking. Comments received may be posted without change to https://www.regulations.gov/, including any personal information provided. For detailed instructions on sending comments and additional information on the rulemaking process, see the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: For questions about this action, contact Ms. Angela Carey, Sector Policies and Programs Division (E143-01), Office of Air Quality Planning and Standards (OAQPS), U.S. Environmental Protection Agency, Research Triangle Park, North Carolina 27711; telephone number: (919) 541-2187; fax number: (919) 541-0516; and email address: carey.angela@epa.gov.

SUPPLEMENTARY INFORMATION: Participation in virtual public hearing. Please note that the EPA is deviating from its typical approach for public hearings because the President has declared a national emergency. Due to the current Centers for Disease Control and Prevention (CDC) recommendations, as well as state and local orders for social distancing to limit the spread of COVID-19, the EPA cannot hold in-person public meetings at this time.

To request a virtual public hearing, contact the public hearing team at (888) 372-8699 or by email at SPPDpublichearing@epa.gov. If requested, the virtual hearing will be held on February 23, 2021. The hearing will convene at 9:00 a.m. Eastern Time (ET) and will conclude at 3:00 p.m. ET. The EPA may close a session 15 minutes after the last pre-registered speaker has testified if there are no additional speakers. The EPA will announce further details at https://www.epa.gov/stationary-sources-air-pollution/volatile-organic-liquid-storage-vessels-including-petroleum-storage.

If a public hearing is requested, the EPA will begin pre-registering speakers for the hearing upon publication of this document in the Federal Register. To register to speak at the virtual hearing, please use the online registration form available at https://www.epa.gov/stationary-sources-air-pollution/volatile-organic-liquid-storage-vessels-including-petroleum-storage or contact the public hearing team at (888) 372-8699 or by email at SPPDpublichearing@epa.gov. The last day to pre-register to speak at the hearing will be February 22, 2021. Prior to the hearing, the EPA will post a general agenda that will list pre-registered speakers in approximate order at: https://www.epa.gov/stationary-sources-air-pollution/volatile-organic-liquid-storage-vessels-including-petroleum-storage.

The EPA will make every effort to follow the schedule as closely as possible on the day of the hearing; however, please plan for the hearing to run either ahead of schedule or behind schedule.

Each commenter will have 5 minutes to provide oral testimony. The EPA encourages commenters to provide the EPA with a copy of their oral testimony electronically (via email) by emailing it to Angela Carey, email address: carey.angela@epa.gov. The EPA also recommends submitting the text of your oral testimony as written comments to the rulemaking docket.

The EPA may ask clarifying questions during the oral presentations but will not respond to the presentations at that time. Written statements and supporting information submitted during the comment period will be considered with the same weight as oral testimony and supporting information presented at the public hearing.

Please note that any updates made to any aspect of the hearing will be posted online at https://www.epa.gov/stationary-sources-air-pollution/volatile-organic-liquid-storage-vessels-including-petroleum-storage. While the EPA expects the hearing to go forward as set forth above, if requested, please monitor our website or contact the public hearing team at (888) 372-8699 or by email at SPPDpublichearing@epa.gov to determine if there are any updates. The EPA does not intend to publish a document in the Federal Register announcing updates.

If you require the services of a translator or a special accommodation such as audio description, please pre-register for the hearing with the public hearing team at (888) 372-8699 or by email at SPPDpublichearing@epa.gov and describe your needs by February 16, 2021. The EPA may not be able to arrange accommodations without advance notice.

Docket. The EPA has established a docket for this rulemaking under Docket ID No. EPA-HQ-OAR-2020-0599. All documents in the docket are listed in Regulations.gov. Although listed, some information is not publicly available, e.g., Confidential Business Information (CBI) or other information whose disclosure is restricted by statute. Certain other material, such as copyrighted material, is not placed on the internet and will be publicly available only in hard copy. With the exception of such material, publicly available docket materials are available electronically in Regulations.gov.

Instructions. Direct your comments to Docket ID No. EPA-HQ-OAR-2020-0599. The EPA's policy is that all comments received will be included in the public docket without change and may be made available online at https://www.regulations.gov/, including any personal information provided, unless the comment includes information claimed to be CBI or other information whose disclosure is restricted by statute. Do not submit electronically any information you consider to be CBI or other information whose disclosure is restricted by statue. This type of information should be submitted by mail as discussed below.

The EPA may publish any comment received to its public docket. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and be free of any defects or viruses. For additional information about the EPA's public docket, visit the EPA Docket Center homepage at https://www.epa.gov/dockets.

The EPA is temporarily suspending its Docket Center and Reading Room for public visitors, with limited exceptions, to reduce the risk of transmitting COVID-19. Our Docket Center staff will continue to provide remote customer service via email, phone, and webform. We encourage the public to submit comments via https://www.regulations.gov/ as there may be a delay in processing mail and faxes. Hand deliveries or couriers will be received by scheduled appointment only. For further information and updates on EPA Docket Center services, please visit us online at https://www.epa.gov/dockets.

The EPA continues to carefully and continuously monitor information from the CDC, local area health departments, and our Federal partners so that we can respond rapidly as conditions change regarding COVID-19.

Submitting CBI. Do not submit information containing CBI to the EPA through https://www.regulations.gov/ or email. Clearly mark the part or all of the information that you claim to be CBI. For CBI information on any digital storage media that you mail to the EPA, mark the outside of the digital storage media as CBI and then identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI. Information not marked as CBI will be included in the public docket and the EPA's electronic public docket without prior notice. Information marked as CBI will not be disclosed except in accordance with procedures set forth in 40 Code of Federal Regulations (CFR) part 2. Send or deliver information identified as CBI only to the following address: OAQPS Document Control Officer (C404-02), OAQPS, U.S. Environmental Protection Agency, Research Triangle Park, North Carolina 27711, Attention Docket ID No. EPA-HQ-OAR-2020-0599. Note that written comments containing CBI and submitted by mail may be delayed and no hand deliveries will be accepted.

Acronyms and abbreviations. We use multiple acronyms and terms in this document. While this list may not be exhaustive, to ease the reading of this document and for reference purposes, the EPA defines the following terms and acronyms here:

AMEL alternative means of emission limitation

CAA Clean Air Act

CBI Confidential Business Information

CFR Code of Federal Regulations

EPA Environmental Protection Agency

HAP hazardous air pollutant(s)

MTVP maximum true vapor pressure

NESHAP national emission standards for hazardous air pollutants

NSPS new source performance standards

OAQPS Office of Air Quality Planning and Standards

PRD pressure relief device

PRV pressure relief valve

scf standard cubic feet

VAM vinyl acetate monomer

VOC volatile organic compound(s)

Organization of this document. The information in this document is organized as follows:

I. Background

II. Request for AMEL

III. AMEL for the Rohm and Haas Chemicals LLC facility

IV. Request for Comments

I. Background

Rohm and Haas is requesting an AMEL for the Standards of Performance for Volatile Organic Liquid Storage Vessels, 40 CFR part 60, subpart Kb (40 CFR 60.112b), that would apply to a proposed new vinyl acetate bulk storage tank to be used at its chemical plant in Kankakee, Illinois. In this Federal Register document, the EPA is soliciting comment on all aspects of this AMEL request, including the corresponding operating conditions that would demonstrate that the requested AMEL would achieve a reduction in emissions of volatile organic compounds (VOC) at least equivalent to the reduction in emissions required by the new source performance standards (NSPS) at 40 CFR 60.112b. The AMEL request states that a new storage tank will be installed at the site to replace the existing vinyl acetate monomer (VAM) (CAS 108-05-4) tank (TK-72). Such tank functions as a buffer for the facility's manufacturing needs between bulk deliveries of VAM. The facility receives VAM predominantly by railcar, but occasionally some VAM is supplied via tank truck. Due to the facility's demand for VAM, the tank experiences a significant number of turnovers per year.

Because the new storage tank will be used to store VAM, a volatile organic liquid as defined at 40 CFR 60.111b, it is subject to NSPS subpart Kb. Rohm and Haas is submitting this AMEL request because the proposed tank design does not contain either an external or internal floating roof or a closed vent system and control device that are specified by 40 CFR 60.112b; rather, it is designed to reduce emissions through vapor balancing and pressure containment. Rohm and Haas states that breathing losses will not occur from the proposed new tank because there are no vents and the tank can withstand pressures up to 9 pounds per square inch gauge (psig) before activation of a pressure relief device (PRD). Rohm and Haas further states that the proposed system will control emissions from working losses by complying with the requirements associated with the use of a vapor balancing system in the National Emission Standards for Organic Hazardous Air Pollutants (NESHAP) from the Synthetic Organic Chemical Manufacturing Industry for Process Vents, Storage Vessels, Transfer Operations, and Wastewater, 40 CFR part 63, subpart G.¹

¹ Rohm and Haas states in its application that “[c]ompliance with 40 CFR 119(g) will address both working losses and breathing losses from this tank.” Rohm and Haas letter at 1. To the extent that Rohm and Haas is suggesting 40 CFR 119(g) addresses breathing losses, we disagree; rather, as discussed in the prior sentence, breathing losses are addressed through pressure containment.

The VOC standards at 40 CFR 60.112b were established as work practice standards pursuant to CAA section 111(h)(1). For standards established according to that provision, CAA section 111(h)(3) allows the EPA to permit the use of an AMEL by a source if, after notice and opportunity for public hearing, it is established to the Administrator's satisfaction that such AMEL will achieve emissions reductions at least equivalent to the reductions required under the applicable CAA section 111(h)(1) standards. NSPS subpart Kb also includes specific regulatory provisions (i.e., 40 CFR 114b) allowing sources to request an AMEL for the VOC standards at 40 CFR 112b.

Rohm and Haas included in its AMEL application information to demonstrate that the proposed bulk storage tank, through its vapor balancing system and pressure containment design, will achieve a reduction in emissions at least equivalent to the reduction in emissions achieved by the VOC standards at 40 CFR 60.112b. Rohm and Haas's AMEL request was submitted on June 17, 2020. For Rohm and Haas's AMEL request, including any supporting materials Rohm and Haas submitted, see Docket ID No. EPA-HQ-OAR-2020-0599.

II. Request for AMEL

Pursuant to 40 CFR 60.114b, Rohm and Haas is seeking an AMEL for the VOC standards set forth at 40 CFR 60.112b for a proposed bulk storage tank to be used at its chemical plant in Kankakee, Illinois. Rohm and Haas's application includes an engineering evaluation to support its request, as required by 40 CFR 60.114b(c).² We, therefore, deem this AMEL application by Rohm and Haas to be complete. Rohm and Haas submitted this AMEL request because the proposed tank design does not contain either an external or internal floating roof or a closed vent system and control device that are specified by 40 CFR 60.112b. Rohm and Haas is proposing an alternative tank design that will eliminate breathing losses by storing material in a pressure tank and control working losses using vapor balancing.

² As explained in the preamble to the proposed NSPS subpart Kb, equivalence “could be demonstrated by a number of methods including: (1) An actual emissions test that uses a full size or scale-model storage vessel that accurately collects and measures all VOC emissions from the storage vessel, or (2) an engineering evaluation as approved by the Administrator.” (Emphasis added). 49 FR 29698, 29706 (July 23, 1984).

The information provided by Rohm and Haas states that the proposed new tank is an American Petroleum Institute (API)-620, 160,000 gallon (approximately 600 cubic meter) fixed-roof storage tank used for the storage of VAM. An API-620 specification tank is designed to contain pressures up to 15 psig. According to Rohm and Haas, breathing losses will not occur because there are no vents, and the tank can withstand pressures up to 9 psig before activation of a PRD. Rohm and Haas's engineering evaluation indicates the tank is not expected to exceed these pressures. The published vapor pressure of VAM is 1.72 pounds per square inch (psi) (89.1 millimeters of mercury) at 68 degrees Fahrenheit (°F); however, the EPA defines the maximum true vapor pressure (MTVP) as the vapor pressure of a specific material at the maximum average monthly temperature, which is 74.7 °F and occurs during the month of July in the Kankakee locale. At the specified maximum temperature, using the Antoine equation and appropriate coefficients, the MTVP of vinyl acetate was estimated to be 2.09 psi, which is well below the 9 psig rupture disk and PRD settings for the proposed tank. Therefore, PRDs will be designed to open only in emergency instances (i.e., external fire or uncontrolled polymerization).

The PRDs will consist of two pressure relief assemblies. The primary assembly will include in series a rupture disk, a pressure indicator, and a pressure relief valve (PRV). The rupture disk and PRV will both be set at 9 psig. The purpose of this assembly is to provide early controlled remediation in case of fire/polymerization/over-pressurization. Because the PRV is downstream of the rupture disk, the design will allow the assembly to return to its closed position once the pressure release event ends. The secondary pressure relief assembly will consist of a rupture disk set at 13 psig, followed by a pressure indicator. This assembly is designed to contain extreme fire/polymerization in the event the first assembly is unable to do so. In such event, the rupture disk will vent to protect against vessel rupture.

To demonstrate that the PRV does not open, the tank vapor space pressure and the space between the rupture disk and PRV will be continuously monitored for pressure and recorded. If a release occurs, a new rupture disk will be installed, and the corresponding PRV will be reseated properly. This PRV will be checked quarterly to ensure the PRV is seated properly using EPA Method 21 following 40 CFR 63.119(g)(5)(i), part of the vapor balancing provisions in NESHAP subpart G (40 CFR 63.119(g)). In the event that a PRV opens, this would qualify as an excess emission event and must be reported on the semiannual compliance report. If designed and operated as described above, there will not be any emission events, therefore, this alternative is equivalent with the standard.

No PRD on the storage tank, railcar, or tank truck is expected to open during loading or as a result of diurnal temperature changes (breathing losses). During filling of the tank, any displaced vapors will be collected and routed through the vapor balancing line. There are no PRDs associated with the vapor balancing line itself, and the PRDs on the railcar are set at 165 psig and tank trucks are set between 25 to 50 psig to prevent an opening of a PRD while the vessel is being unloaded.

The tank will also be equipped with a vacuum relief system that will be used when VAM is transferred to the process area, and both the vacuum relief system and a vapor balance system will be used when VAM is added to the tank. The vacuum relief system only serves to allow ambient air into the tank's head space to equalize pressure decreases as material is removed. The vapor balance system operation collects and contains vapors discharged during tank filling operations.

In its request, Rohm and Haas states that the proposed tank would comply with the vapor balancing requirements in NESHAP subpart G, 40 CFR 63.119(g) to confirm proper vapor balancing.

The facility unloads VAM from tank trucks or railcars, which are connected to the tank system's vapor balance system. The Kankakee facility's bulk unloading Standard Operating Procedure requires that each U.S. Department of Transportation (DOT)-specification tank truck or railcar containing vinyl acetate be inspected to verify that its DOT qualification inspections and tests are current. VAM will be unloaded only from tank trucks or railcars which are connected to the tank system's vapor balance system.

The site will require that railcars and tank trucks that deliver VAM will be reloaded or cleaned only at facilities which utilize the control techniques specified at 40 CFR 63.119(g)(6)(i) or (ii) of NESHAP subpart G. The site will mandate that each railcar or tank truck is connected to a closed-vent system with a control device that reduces inlet emissions of HAP by 95 percent by weight or greater.

The Kankakee facility will request, maintain, and submit to the Administrator a written certification from the VAM supplier that each supplier's current reloading or cleaning facility meets the above requirements. If the supplier(s) of the VAM changes in the future, the Kankakee facility will obtain a written certification that the new supplier(s) meet these requirements.

Rohm and Haas believes that this tank, as designed and operated, will result in a reduction in emissions equivalent to or better than the amount achieved by the VOC standards set forth in 40 CFR 60.112b of NSPS subpart Kb. Rohm and Haas, therefore, asks that the EPA approve this AMEL request.

III. AMEL for the Rohm and Haas Chemicals LLC Facility

Based upon our review of the AMEL request, we believe that, by complying with the operating conditions specified below, the proposed new tank at Dow's Rohm and Haas Chemicals LLC facility will achieve emission reductions at least equivalent to reduction in emissions required by NSPS subpart Kb, 40 CFR 60.112b. We are seeking the public's input on this request. Specifically, the EPA seeks the public's input on the conditions specified in this document in the following paragraphs.

(1) No PRD on the storage tank, or on the railcar or tank truck, shall open during loading or as a result of diurnal temperature changes (breathing losses).

(2) Both PRDs on the storage tank must be set to release at no less than 9 psig at all times. Any release from a PRD as indicated by pressure reading greater than 9 psig is an excess emissions event. To demonstrate that the PRD does not open, the tank vapor space pressure and the space between the rupture disk and PRD will be continuously monitored for pressure and recorded. If a release occurs, the tank must follow 40 CFR 63.165(d)(2).

(3) Each of the PRDs and components of the vapor collection system on the tank must be monitored on a quarterly basis, using EPA Method 21. An instrument reading of 500 parts per million by volume or greater is an excess emissions event.

(4) VAM must be transferred from either railcars or truck trailers via welded steel piping into the new bulk storage tank. The tank must be equipped with a welded steel vapor balance line that returns displaced vinyl acetate vapors from the headspace within the tank to the railcar or tank truck during tank filling operations. The vapor balance line must be hard piped from the tank, crossing a pipe bridge, before terminating at the off-loading station. The tank vapor balance line must not contain any PRDs or release points. Displaced vapors must be transferred to a vapor return fitting on the offloading bulk vehicle through a hose from the offloading station. Both the transfer hoses and the vapor balance return line must incorporate dry-disconnect fittings to prevent vapor discharge to the atmosphere when the line is not connected. Tank trucks and railcars must have a current certification in accordance with the DOT pressure test requirements of 49 CFR part 180 for tank trucks and 49 CFR 173.31 for railcars. Railcars, tank trucks, or barges that deliver VAM to a storage tank must be reloaded or cleaned at a facility that utilizes the control techniques specified in paragraph (4)(a) or (b).

(a) The railcar, tank truck, or barge must be connected to a closed-vent system with a control device that reduces inlet emissions of VAM by 95 percent by weight or greater.

(b) A vapor balancing system designed and operated to collect organic VAM vapor displaced from the tank truck or railcar during reloading must be used to route the collected HAP vapor to the storage tank from which the liquid being transferred originated.

(5) Rohm and Haas must submit to the Administrator a written certification that the reloading or cleaning facility meets the requirements of paragraph 4; and the requirements for closed vent system and control device specified at 40 CFR 63.119 through 63.123. The notification and reporting requirements at 40 CFR 63.122 do not apply to the owner or operator of the offsite cleaning or reloading facility.

(6) Recordkeeping requirements.

(a) The facility must keep a record of the equipment to be used and the procedures to be followed when reloading the railcar, tank truck, or barge and displacing vapors to the storage tank from which the liquid originates, as well as a record of all components of the PRDs, including PRVs and rupture disks.

(b) Records must be kept as long as the storage vessel is in operation.

(7) Reporting requirements. The facility must submit excess emissions and monitoring systems performance reports to the Administrator semiannually. All reports must be postmarked by the 30th day following the end of each 6-month period. Written reports of excess emissions must include the following information:

(a) The date and time of commencement and completion of each time period of excess emissions. The process operating time during the reporting period.

(b) The date and time identifying each period during which the continuous monitoring system was inoperative except for zero and span checks and the nature of the system repairs or adjustments.

(c) The report must include a list of the affected sources or equipment, an estimate of the volume of VAM emitted, and a description of the method used to estimate the emissions.

(d) When the continuous pressure monitoring systems have not been inoperative, repaired, or adjusted, such information shall be stated in the report.

IV. Request for Comments

We solicit comments on all aspects of Rohm and Haas's requests for approval of an AMEL for these new requirements to be used to comply with the applicable standards. We specifically seek comment regarding whether or not the operating requirements listed in section III above will achieve emission reductions at least equivalent to emissions being controlled by complying with the applicable requirements in the 40 CFR part 60, subpart Kb, Standards of Performance for Volatile Organic Liquid Storage Vessels requirements in 40 CFR 60.112b.

Dated: December 8, 2020.
Panagiotis Tsirigotis,
Director, Office of Air Quality Planning and Standards.

[FR Doc. 2021-02518 Filed 2-5-21; 8:45 am]

BILLING CODE 6560-50-P